AGENCY FOR INTERNATIONAL DEVELOPMENT

Board for International Food and Agriculture Development, One Hundred and Thirty First Meeting; Notice of Meeting

Pursuant to the Federal Advisory Committee Act, notice is hereby given of the one hundred and thirty first meeting of the Board for International Food and Agriculture Development (BIFAD). The meeting will be held from 9 a.m. to 5 p.m. on March 16, 2000, and from 9 a.m. to 4 p.m. on March 17, 2000, in the NASULGC conference room on the first floor at 1307 New York Avenue, N.W., Washington, DC 2005.

As part of its agenda, BIFAD will look at the role of agriculture in global poverty reduction. A strong agriculture sector is the cornerstone to a strong economy and poverty reduction. In developing countries the majority of the population is engaged in agriculture. BIFAD will learn how development policies as well as activities in different geographic regions are supporting poverty reduction through improved agriculture. BIFAD will hear about university/private sector partnerships collaborating on international agriculture development in select commodities. Such collaboration is important in promoting agricultural development.

Those wishing to attend the meeting or obtain additional information about BIFAD should contact Mr. Charles Uphaus, the Acting Designated Federal Officer for BIFAD. Write him in care of the Agency for International development, Ronald Reagan Building, Office of Agriculture and Food Security, 1300 Pennsylvania Avenue, N.W., Room 2.11-044, Washington, DC 20523-2110 or telephone him at (202) 712-1172 or fax (202) 216BIFAD3060.

Charles Uphaus,
USAID Acting Designated Federal Officer for BIFAD, Office of Agriculture and Food Security, Economic Growth Center, Bureau for Global Programs.

[FR Doc. 00-3953 Filed 2-17-00; 8:45 am]

BILLING CODE 6116-01-M